DEPARTMENT OF HEALTH AND HUMAN SERVICES

Health Resources and Services Administration

Part C Early Intervention Services Grant Under the Ryan White HIV/AIDS Program

AGENCY: Health Resources and Services Administration (HRSA), HHS.

ACTION: Notice of noncompetitive award of Part C funds for Saint Michael's Medical Center.

SUMMARY: HRSA will be providing Part C Funds for Saint Michael's Medical Center as a noncompetitive extension in order to ensure continuity of critical HIV medical and clinical care and treatment services to clients in Metropolitan Newark, Essex, and Union Counties in New Jersey.

SUPPLEMENTARY INFORMATION:

Grantee of record: Saint Michael's Medical Center.

Intended recipient of the award: Saint Michael's Medical Center, Newark, New Jersey.

Amount of the award: $537,607 to ensure ongoing clinical services to the target population.

Authority: Section 2651 of the Public Health Service Act, 42 U.S.C. 300ff-51.

Project Period: April 1, 2005, to March 31, 2011. The period of support for this award is from April 1, 2010, to June 30, 2011.

Justification for the Exception to Competition: Critical funding for HIV medical care and treatment services to clients in Metropolitan Newark, Essex and Union Counties in New Jersey will be continued through a noncompetitive extension to Saint Michael's Medical Center, an existing grantee of record in Newark, New Jersey. This is a temporary extension with Part C Funds, as the previous grant recipient did not successfully submit a fiscal year (FY) 2010 competitive continuation application through Grants.gov by the published deadline. There were no other eligible applications received for this service area in the recent Part C competing continuation application review process. Saint Michael's Medical Center is the best qualified health service provider to ensure the continuity of care, and provide critical services to the service population until the service area is re-competed in 2011.

This supplement will cover the time period from April 1, 2010, through June 30, 2011. This service area will be included in the upcoming competition for the Part C HIV Early Intervention Services for project periods starting July, 2011.

FOR FURTHER INFORMATION CONTACT: Michael Evanson, by e-mail mevanson@hrsa.gov, or via telephone, 301-443-1362.

Dated: January 27, 2010.
Mary K. Wakefield,
Administrator.

[FR Doc. 2010-2241 Filed 2-2-10; 8:45 am]

BILLING CODE 4165-15-P